DEPARTMENT OF AGRICULTURE

Food Safety and Inspection Service

[Docket No. FSIS-2009-0025]

Codex Alimentarius Commission: Meeting of the Fifteenth Session of the Codex Committee on Fresh Fruits and Vegetables

AGENCY: Office of the Acting Under Secretary for Food Safety, USDA.

ACTION: Notice of public meeting and request for comments.

SUMMARY: The Office of the Acting Under Secretary for Food Safety, U.S. Department of Agriculture (USDA), and the Agricultural Marketing Service (AMS), Fruit and Vegetable Programs, USDA, are sponsoring a public meeting on September 17, 2009. The objective of the public meeting is to provide information and receive public comments on agenda items and draft United States positions that will be discussed at the 15th Session of the Codex Committee on Fresh Fruits and Vegetables (CCFFV) of the Codex Alimentarius Commission (Codex). The Acting Under Secretary for Food Safety and AMS recognize the importance of providing interested parties the opportunity to obtain background information on the 15th Session of the CCFFV and to address items on the agenda.

DATES: The public meeting is scheduled for Thursday, September 17, 2009, at 10 a.m. to 12 p.m.

ADDRESSES: The public meeting will be held in Room 2068, USDA South Building at 1400 Independence Ave., SW., Washington, DC 20250. Documents related to the 15th CCFFV Session will be accessible via the World Wide Web at the following address: http://www.codexalimentarius.net/current.asp.

The U.S. Delegate to the 15th Session of the CCFFV invites interested U.S. parties to submit their comments electronically to the following e-mail address dorian.lafond@usda.gov.

For Further Information About the 15th CCFFV Session Contact: Dorian LaFond, International Standards Coordinator, AMS Fruit and Vegetable Programs, Stop 0235, 1400 Independence Ave., SW., Washington, DC 20250, Telephone: (202) 690-4944, E-mail: dorian.lafond@usda.gov.

For Further Information About the Public Meeting Contact: Doreen Chen-Moulec, Staff Officer, U.S. Codex Office, Food Safety and Inspection Service, U.S. Department of Agriculture, 1400 Independence Avenue, SW., Washington, DC 20250, Telephone: (202) 205-7760, E-mail: doreen.chen-moulec@fsis.usda.gov.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure that fair practices are used in trade. The CCFFV is hosted by Mexico.

Issues To Be Discussed at the Public Meeting

The following items on the Agenda for the 15th CCFFV Session will be discussed during the public meeting:

• Matters Arising from the Codex Alimentarius Commission and other Codex Committees;

• Matters Arising from other International Organizations on the Standardization of Fresh Fruits and Vegetables;

• United Nations Economic Commission for Europe (UNECE) Standards for Fresh Fruits and Vegetables: (i) UNECE Standard for Apples (FFV-50); (ii) UNECE Standard for Avocados (FFV-42);

• Draft Section 6 “Marking or Labeling” (Draft Standard for Bitter Cassava);

• Draft Standard for Apples;

• Proposed Draft Standard for Avocado (revision) (N19-2008);

• Proposed Draft Standard for Chili Peppers (N17-2008);

• Proposed Draft Standard for Tree Tomato (N18-2008);

• Layout for Codex Standards for Fresh Fruits and Vegetables;

• Proposed Layout for Codex Standards for Fresh Fruits and Vegetables—Comments in Response to CL 2008/13-FFV;

• Glossary of Terms used in the Proposed Layout for Codex Standards on Fresh Fruits and Vegetables;

• Proposals for Amendments to the Priority List for the Standardization of Fresh Fruits and Vegetables—CL 2008/13-FFV.

Each issue listed will be fully described in documents distributed, or to be distributed, by the Secretariat prior to the meeting. Members of the public may access copies of these documents via the World Wide Web at the following address: http://www.codexalimentarius.net/current.asp.

Public Meeting

At the September 17, 2009 public meeting, draft U.S. positions on the agenda items will be described and discussed, and attendees will have the opportunity to pose questions and offer comments. Written comments may be offered at the meeting or sent to the U.S. Delegate for the 15th CCFFV Session, Dorian LaFond (see ADDRESSES). Written comments should state that they relate to activities of the 15th CCFFV Session.

Additional Public Notification

Public awareness of all segments of rulemaking and policy development is important. Consequently, in an effort to ensure that minorities, women, and persons with disabilities are aware of this notice, FSIS will announce it online through the FSIS Web page located at http://www.fsis.usda.gov/regulations/2009_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on August 5, 2009.
Karen Stuck,
U.S. Manager for Codex Alimentarius.

[FR Doc. E9-19117 Filed 8-10-09; 8:45 am]

BILLING CODE 3410-DM-P